DEPARTMENT OF HOMELAND SECURITY

Coast Guard

DEPARTMENT OF TRANSPORTATION

Maritime Administration

[USCG-2004-18474]

Pearl Crossing LNG Terminal LLC, Liquefied Natural Gas Deepwater Port License Application

AGENCY: Coast Guard, DHS; and Maritime Administration, DOT.

ACTION: Notice of application.

SUMMARY: The Coast Guard and the Maritime Administration (MARAD) give notice, as required by the Deepwater Port Act of 1974, as amended, that they have received an application for the licensing of a liquefied natural gas (LNG) deepwater port, and that the application appears to contain the required information. This notice summarizes the applicant's plans and the procedures that will be followed in considering the application.

DATES: Any public hearing held in connection with this application must be held no later than March 18, 2005, and it would be announced in the Federal Register. A decision on the application must be made within 90 days after the last public hearing held on the application.

ADDRESSES: You may submit comments identified by Coast Guard docket number USCG-2004-18474 to the Docket Management Facility at the U.S. Department of Transportation. To avoid duplication, please use only one of the following methods:

(1) Web Site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

(5) Federal eRulemaking Portal: http://www.regulations.gov.

FOR FURTHER INFORMATION CONTACT: If you have questions on this notice, call Lieutenant Ken Kusano at 202-267-1184, or e-mail at KKusano@comdt.uscg.mil. If you have questions on viewing or submitting material to the docket, call Andrea M. Jenkins, Program Manager, Docket Operations, telephone 202-366-0271.

SUPPLEMENTARY INFORMATION:

Public Participation and Request for Comments

You may submit comments concerning this application. All comments received will be posted, without change, to http://dms.dot.gov and will include any personal information you have provided. We have an agreement with the Department of Transportation (DOT) to use their Docket Management Facility. Please see DOT's “Privacy Act” paragraph below.

Submitting comments: If you submit a comment, please include your name and address, identify the docket number for this rulemaking (USCG-2004-18474), indicate the specific section of this document to which each comment applies, and give the reason for each comment. You may submit your comments and material by electronic means, mail, fax, or delivery to the Docket Management Facility at the address under ADDRESSES; but please submit your comments and material by only one means. If you submit them by mail or delivery, submit them in an unbound format, no larger than 81/2 by 11 inches, suitable for copying and electronic filing. If you submit them by mail and would like to know that they reached the Facility, please enclose a stamped, self-addressed postcard or envelope.

Viewing comments and documents: To view comments, as well as documents mentioned in this preamble as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Receipt of application; determination. On May 25, 2004, the Coast Guard and MARAD received an application from Pearl Crossing LNG Terminal LLC, 800 Bell Street, Houston, TX 77002 for all federal authorizations required for a license to own, construct and operate a deepwater port off the coast of Louisiana with associated pipeline facilities. On July 8, 2004, we determined that the application contains all information required by the Deepwater Port Act of 1974, as amended, 33 U.S.C. 1501 et seq. (the Act). The application and related documentation supplied by the applicant (except for certain protected information specified in 33 U.S.C. 1513) will be available in the public docket (see ADDRESSES).

Background. According to the Act, a deepwater port is a fixed or floating manmade structure other than a vessel, or a group of structures, located beyond State seaward boundaries and used or intended for use as a port or terminal for the transportation, storage, and further handling of oil or natural gas for transportation to any State.

A deepwater port must be licensed, and the Act provides that a license applicant submit detailed plans for its facility to the Secretary of Transportation, along with its application. The Secretary has delegated the processing of deepwater port applications to the Coast Guard and MARAD. The Act allows 21 days following receipt of the application to determine if it appears to contain all required information. If it does, we must publish a notice of application in the Federal Register and summarize the plans. This notice is intended to meet those requirements of the Act and to provide general information about the procedure that will be followed in considering the application.

Application procedure. The application is considered on its merits. Under the Act, we must hold at least one public hearing within 240 days from the date this notice is published. A separate Federal Register notice will be published to notify interested parties of any public hearings that are held. At least one public hearing must be held in each adjacent coastal state. Pursuant to 33 U.S.C. 1508, we designate Louisiana as the adjacent coastal state for this application. Other states may apply for adjacent coastal state status in accordance with 33 U.S.C. 1508 (a)(2). After the last public hearing, Federal agencies and the adjacent coastal State have 45 days in which to comment on the application, and approval or denial of the application must follow within 90 days of the last public hearing. Details of the application process are described in 33 U.S.C. 1504 and in 33 CFR part 148.

The Coast Guard and MARAD plan to prepare an environmental impact statement (EIS) for this project. The EIS will also assess the environmental impact of an onshore pipeline that is part of the project proposal, even though an affiliate of Pearl Crossing LNG Terminal LLC must separately apply for and receive an authorization from the Federal Energy Regulatory Commission (FERC) for that onshore pipeline. We have consulted with FERC and understand that the affiliate applied to FERC for onshore pipeline authorization under Docket Number CP04-374-000, CP04-375-000 and CP04-376-000. All comments related to this project, including the onshore pipeline, may be submitted in accordance with the guidance under ADDRESSES.

Summary of the application. The application plan calls for the proposed deepwater port to be located outside State waters in the Gulf of Mexico on the U.S. Outer Continental Shelf (OCS), approximately 41 miles (66 kilometers) south of the Louisiana coast in West Cameron Block 220. It will be located in a water depth of approximately 62 feet (19 meters). The proposed Pearl Crossing LNG Terminal is a concrete Gravity Based Structure (GBS). The terminal proposes to install two integral liquefied natural gas storage tanks and serve as the platform for vessels to offload and regasify LNG.

The proposed GBS is a double-walled concrete structure, rectilinear in shape, that would measure approximately 590 feet (180 meters) long by 295 feet (90 meters) wide. The structure would rest on the seabed with a total terminal footprint (GBS plus jacket structures) area of approximately 12 acres (5 hectares). The terminal would include LNG storage tanks, equipment for receiving and vaporization of LNG, electric power generation, water purification, nitrogen generation, sewage treatment and accommodations for up to 60 persons. The total net working capacity of the two integral LNG storage tanks would be 250,000 cubic meters (m³).

Pearl Crossing would have the ability to accommodate two LNG carriers alongside that will have capacities ranging from 125,000 to 250,000 m³ per vessel. This would allow one incoming LNG carrier to be secured to prepare to offload cargo, while another LNG carrier is completing an offloading cycle.

Ship cargo transfer will use two loading arm packages (one on each side of the terminal), each consisting of five 16-inch-diameter (40-centimeter) loading arms. LNG carriers would offload through four of the loading arms. Offloading rates are expected to equal 14,000 m³ per hour of LNG. The fifth loading arm would be dedicated to vapor return from the terminal for pressure equalization between an LNG carrier and the storage tanks of Pearl Crossing.

The regasification process would be accomplished through thirteen electric pumps that will supply 13,200 gallons per minute (50,000 liters per minute) of seawater for the open rack vaporizers. The intakes will utilize passive, cylindrical wedge-wire-type screens with an automated air backwash system. The slot size would be 0.25 inch (6.4 millimeters) or less to minimize impingement or entrainment of marine organisms. Seawater would be treated with hypochlorite produced by an electrolytic chlorination unit prior to entering the seawater pump intake lines.

The applicant proposes to install two dedicated 42-inch-diameter (1,100 mm) offshore pipelines that will originate at the terminal and traverse the Gulf of Mexico in a northwesterly direction to the high water mark near Johnsons Bayou in Cameron Parish, Louisiana. Each offshore pipeline would have a throughput capacity of 1.4 billion standard cubic feet per day (Bscfd) for a total peak capacity of 2.8 Bscfd. Thereafter, the pipelines will continue onshore to multiple gas delivery points in Louisiana and come under FERC jurisdiction.

Pearl Crossing Pipeline LLC will transport natural gas from the terminal's two offshore pipelines for further transportation. Gas will be transported to a metering and distribution station in Johnsons Bayou for delivery to several interstate and intrastate pipelines near the station. Once onshore, an additional 63.75 miles of 42-inch-diameter pipeline and five additional meter stations would be constructed. The pipeline would terminate near Starks, Louisiana, and requires separate permitting by FERC. There are no proposals for onshore storage.

Dated: July 16, 2004.
Joseph J. Angelo,
Director of Standards, Marine Safety, Security, and Environmental Protection, U.S. Coast Guard.
H. Keith Lesnick,
Senior Transportation Specialist, Deepwater Ports, Program Manager, U.S. Maritime Administration.

[FR Doc. 04-16590 Filed 7-20-04; 8:45 am]

BILLING CODE 4910-15-P